ENVIRONMENTAL PROTECTION AGENCY

[FRL-7660-7]

Good Neighbor Environmental Board Meeting

AGENCY: Environmental Protection Agency (EPA).

ACTION: Notice of meeting.

SUMMARY: The next meeting of the Good Neighbor Environmental Board, a Federal advisory committee that reports to the President and Congress on environmental and infrastructure projects along the U.S. border with Mexico, will take place in McAllen, Texas on June 9 and 10, 2004. It is open to the public.

DATES: On June 9, the meeting will begin at 8:30 a.m. (registration at 8 a.m.) and end at 5:30 p.m. On June 10, the Board will hold a routine business meeting from 8 a.m. until 12 noon. (registration at 7:30 a.m.).

ADDRESSES: The meeting site is the Mesquite Room of the Holiday Inn Civic Center, 200 West Expressway 83, McAllen, Texas 78501. The phone number is 956-686-2471.

FOR FURTHER INFORMATION CONTACT: Elaine M. Koerner, Designated Federal Officer for the Good Neighbor Environmental Board. U.S. Environmental Protection Agency Region 9 Office, 75 Hawthorne St., San Francisco, California 94105. Tel: Region 9 office: (415) 972-3437; D.C. office (202) 233-0069. E-mail: koerner.elaine@epa.gov.

SUPPLEMENTARY INFORMATION: Agenda: On the first day of the two-day meeting, which begins at 8:30 a.m. (registration at 9 a.m.), the Board has invited a number of water resources experts to speak on water management challenges and opportunities in the border region. The first day of the meeting will also include a public comment session and an update from Board members on recent projects being carried out by their respective organizations. It will conclude at 5:30 p.m. The second day of the meeting, June 10, begins at 8 a.m., with registration at 7:30 a.m. It will take the form of a routine business meeting, including the status of disseminating the latest report as well as discussion about the next report. The meeting will end at noon.

Public Attendance: The public is welcome to attend all portions of the meeting. Members of the public who plan to file written statements and/or make brief (suggested 5-minute limit) oral statements at the public comment session are encouraged to contact the Designated Federal Officer for the Board prior to the meeting.

Meeting Access: Individuals requiring special accommodation at this meeting, including wheelchair access to the conference room, should contact the Designated Federal Officer at least five business days prior to the meeting so that appropriate arrangements can be made.

Background: The Good Neighbor Environmental Board meets three times each calendar year at different locations along the U.S.-Mexico border and in Washington, DC. It was created by the Enterprise for the Americas Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Pub. L. 92-463).

Dated: May 6, 2004.
Oscar Carrillo,
Associate Designated Federal Officer.

[FR Doc. 04-10890 Filed 5-12-04; 8:45 am]

BILLING CODE 6560-50-M